DEPARTMENT OF ENERGY

Federal Energy Regulatory Commission

[Docket No. EG00-172-000, et al.]

CPV Gulfcoast, Ltd., et al.; Electric Rate and Corporate Regulation Filings

July 5, 2000.

Take notice that the following filings have been made with the Commission:

1. CPV Gulfcoast, Ltd.

[Docket No. EG00-172-000]

Take notice that on June 23, 2000, CPV Gulfcoast, Ltd., c/o Competitive Power Ventures, L.P., 4061 Power Mill Road, Suite 700, Calverton, MD 20705, filed with the Federal Energy Regulatory Commission (Commission) an amendment to the June 15, 2000 application for determination of exempt wholesale generator status pursuant to Part 365 of the Commission's regulations.

The amendment identified the following informational changes: (i) CPV Gulfcoast, Ltd. is the name of the Applicant rather than CPV Gulfcoast, L.P. and (ii) that the nominally rated 250 MW natural gas fired combined cycle generating facility will consist of one (1) F class combustion turbine, one (1) heat recovery steam generator and a single steam turbine.

Comment date: July 26, 2000, in accordance with Standard Paragraph E at the end of this notice. The Commission will limit its consideration of comments to those that concern the adequacy or accuracy of the amended application.

2. Southern Company Services, Inc.

[Docket No. ER00-2998-000]

Take notice that on June 30, 2000, Southern Company Services, Inc., as agent for Georgia Power Company (Georgia Power), tendered for filing the Purchased Power Agreement between Georgia Power and LG&E Energy Marketing, Inc. (LEM) dated October 6, 1999 (the Agreement) pursuant to the Commission's authorization for Georgia Power to sell power at market rates under the Market-Based Rate Tariff, FERC Electric Tariff, First Revised Volume No. 4 (Supersedes Original Volume No. 4). The Agreement provides the general terms and conditions for capacity and associated energy sales from Georgia Power to LEM commencing on June 1, 2000.

Comment date: July 21, 2000, in accordance with Standard Paragraph E at the end of this notice.

3. Southern Company Services, Inc.

[Docket No. ER00-2999-000]

Take notice that on June 30, 2000, Southern Company Services, Inc., as agent for Georgia Power Company (Georgia Power), tendered for filing the Purchased Power Agreement between Georgia Power and LG&E Energy Marketing, Inc. (LEM) dated November 24, 1998 (the Agreement), the Letter Agreement between LEM and Georgia Power, dated as of June 20, 2000 (Letter Agreement), and the Letter Agreement between LEM and Georgia Power, dated as of June 26, 2000 (Second Letter Agreement), pursuant to the Commission's authorization for Georgia Power to sell power at market rates under the Market-Based Rate Tariff, FERC Electric Tariff, First Revised Volume No. 4 (Supersedes Original Volume No. 4). The Agreement provides the general terms and conditions for capacity and associated energy sales from Georgia Power to LEM commencing on June 1, 2000. The Letter Agreement and the Second Letter Agreement accelerate the commencement dates for the delivery of portions of capacity and associated energy under the Agreement.

Comment date: July 21, 2000, in accordance with Standard Paragraph E at the end of this notice.

4. Southern Company Services, Inc.

[Docket No. ER00-3000-000]

Take notice that on June 30, 2000, Southern Company Services, Inc., as agent for Georgia Power Company (Georgia Power), tendered for filing the Purchased Power Agreement between Georgia Power and Dynegy Power Marketing, Inc. (Dynegy) dated March 2, 2000 (the Agreement) pursuant to the Commission's authorization for Georgia Power to sell power at market rates under the Market-Based Rate Tariff, FERC Electric Tariff, First Revised Volume No. 4 (Supersedes Original Volume No. 4). The Agreement provides the general terms and conditions for capacity and associated energy sales from Georgia Power to Dynegy commencing on June 1, 2000.

Comment date: July 21, 2000, in accordance with Standard Paragraph E at the end of this notice.

5. Southern Company Services, Inc.

[Docket No. ER00-3001-000]

Take notice that on June 30, 2000, Southern Company Services, Inc., as agent for Georgia Power Company (Georgia Power), tendered for filing the Power Purchase Agreement between Georgia Power and Alabama Electric Cooperative, Inc. (AEC) dated May 5, 2000 (the Agreement) pursuant to the Commission's authorization for Georgia Power to sell power at market rates under the Market-Based Rate Tariff, FERC Electric Tariff, First Revised Volume No. 4 (Supersedes Original Volume No. 4). The Agreement provides the general terms and conditions for capacity and associated energy sales from Georgia Power to AEC commencing on June 1, 2000.

Comment date: July 21, 2000, in accordance with Standard Paragraph E at the end of this notice.

6. Conectiv

[Docket No. ER00-3002-000]

Take notice that on June 30, 2000, Conectiv tendered for filing under Section 205 of the Federal Power Act four Interconnection Agreements between Conectiv and NRG Energy, Inc. The Interconnection Agreements set forth the terms for the interconnection of four wholly-owned generating stations being acquired by NRG Energy, Inc. from Conectiv in association with Conectiv's restructuring efforts.

A copy of the filing was served on the Delaware Public Service Commission, the Maryland Public Service Commission, the New Jersey Board of Public Utilities, the Pennsylvania Public Utility Commission, the Virginia State Corporation Commission, PJM Interconnection, LLC, and NRG Energy, Inc.

Comment date: July 21, 2000, in accordance with Standard Paragraph E at the end of this notice.

7. Ameren Services Company

[Docket No. ER00-3003-000]

Take notice that on June 30, 2000, Ameren Services Company (ASC), the transmission provider, tendered for filing a Service Agreement for Long-Term Firm Point-to-Point Transmission Service between ASC and Illinois Municipal Electric Agency (IMEA). ASC asserts that the purpose of the Agreement is to permit ASC to provide transmission service to IMEA pursuant to Ameren's Open Access Transmission Tariff filed in Docket No. ER96-677-004.

Comment date: July 21, 2000, in accordance with Standard Paragraph E at the end of this notice.

8. Virginia Electric and Power Company

[Docket No. ER00-3004-000]

Take notice that on June 30, 2000, Virginia Electric and Power Company (Virginia Power or the Company), tendered for filing the following unexecuted Service Agreements with Sempra Energy Trading Corporation (Transmission Customer):

1. Unexecuted Second Amended Service Agreement for Firm Point-to-Point Transmission Service designated Second Revised Service Agreement No. 253 under the Company's FERC Electric Tariff, First Revised Volume No. 5;

2. Unexecuted Second Amended Service Agreement for Non-Firm Point-to-Point Transmission Service designated Second Revised Service Agreement No. 49 under the Company's FERC Electric Tariff, Original Volume No. 5.

The foregoing Service Agreements are tendered for filing under the Open Access Transmission Tariff to Eligible Purchasers dated July 14, 1997. Under the tendered Service Agreements, Virginia Power will provide point-to-point service to the Transmission Customer under the rates, terms and conditions of the Open Access Transmission Tariff. The Company requests an effective date of June 1, 2000, the date service was first provided to the customer under the amended agreements.

Copies of the filing were served upon Sempra Energy Trading Corporation, the Virginia State Corporation Commission, and the North Carolina Utilities Commission.

Comment date: July 21, 2000, in accordance with Standard Paragraph E at the end of this notice.

9. TXU Electric Company

[Docket No. ER00-3005-000]

Take notice that, on June 30, 2000, TXU Electric Company (TXU Electric) tendered for filing an executed transmission service agreement (TSA) with Engage Energy U.S., L.P. for certain Planned and Unplanned Service transactions under TXU Electric's Tariff for Transmission Service To, From and Over Certain HVDC Interconnections.

TXU Electric requests an effective date for the TSA that will permit it to become effective on or before the service commencement date under the TSA. Accordingly, TXU Electric seeks waiver of the Commission's notice requirements.

Copies of the filing were served on Engage Energy U.S., L.P. as well as the Public Utility Commission of Texas.

Comment date: July 21, 2000, in accordance with Standard Paragraph E at the end of this notice.

10. PJM Interconnection, L.L.C.

[Docket No. ER00-3006-000]

Take notice that on June 30, 2000, PJM Interconnection, L.L.C. (PJM), tendered for filing amendments to the Service Agreement for Network Integration Transmission Service for PP&L Inc. (now PPL Electric Utilities Corporation) (PPL) so as to reflect that, commencing June 1, 2000, the load of the Borough of Goldsboro, Pennsylvania (Goldsboro) will be served by PPL rather than GPU.

Copies of this filing were served upon PPL, GPU, Goldsboro, and the Pennsylvania Public Utility Commission.

PJM requests an effective date of June 1, 2000, for the amendments to the service agreements.

Comment date: July 21, 2000, in accordance with Standard Paragraph E at the end of this notice.

11. California Independent System Operator Corporation

[Docket No. ER00-3007-000]

Take notice that on June 30, 2000, the California Independent System Operator Corporation, tendered for filing a Participating Generator Agreement between the ISO and Gas Recovery Systems, Inc., for acceptance by the Commission.

The ISO states that this filing has been served on Gas Recovery Systems, Inc. and the California Public Utilities Commission.

The ISO is requesting waiver of the 60-day notice requirement to allow the Participating Generator Agreement to be made effective June 12, 2000.

Comment date: July 21, 2000, in accordance with Standard Paragraph E at the end of this notice.

12. The Montana Power Company

[Docket No. ER00-3008-000]

Take notice that on June 30, 2000, The Montana Power Company (Montana) tendered for filing with the Federal Energy Regulatory Commission pursuant to 18 CFR 35.13 an unexecuted Network Integration Transmission Service Agreement PPL EnergyPlus, LLC (PPL) (Open Access Transmission Tariff).

A copy of the filing was served upon PPL Energy Plus, LLC.

Comment date: July 21, 2000, in accordance with Standard Paragraph E at the end of this notice.

13. Virginia Electric and Power Company

[Docket No. ER00-3009-000]

Take notice that on June 30, 2000, Virginia Electric and Power Company tendered for filing amendments to its Open Access Transmission Tariff (OATT) to enhance the ability of customers whose loads are less than 1 MW in any or all hours to schedule transmission service under the Company's OATT.

Virginia Power requests an effective date of September 1, 2000.

The filing has been served on Virginia Power's current OATT customers, the Virginia State Corporation Commission and the North Carolina Utilities Commission.

Comment date: July 21, 2000, in accordance with Standard Paragraph E at the end of this notice.

14. The Dayton Power and Light Company

[Docket No. ER00-3010-000]

Take notice that on June 30, 2000, The Dayton Power and Light Company (Dayton), tendered for filing service agreements establishing British Columbia Power Exchange Corporation and Pepco Energy Services as customers under the terms of Dayton's Open Access Transmission Tariff.

Dayton requests an effective date of one day subsequent to this filing for the service agreements. Accordingly, Dayton requests waiver of the Commission's notice requirements.

Copies of this filing were served upon establishing British Columbia Power Exchange Corporation and Pepco Energy Services and the Public Utilities Commission of Ohio.

Comment date: July 21, 2000, in accordance with Standard Paragraph E at the end of this notice.

15. The Detroit Edison Company

[Docket No. ER00-3011-000]

Take notice that on June 30, 2000, The Detroit Edison Company (Detroit Edison), tendered for filing Service Agreements (Service Agreements) for Short-term Firm Point-to-Point Transmission Service under the Joint Open Access Transmission Tariff of Consumers Energy Company and Detroit Edison, FERC Electric Tariff No. 1, between Detroit Edison and Nordic Electric, dated as of April 20, 2000. The parties have not engaged in any transactions under the Service Agreements prior to thirty days to this filing.

Detroit Edison requests that the Service Agreements be made effective as rate schedules as of May 19, 2000.

Comment date: July 21, 2000, in accordance with Standard Paragraph E at the end of this notice.

16. The Detroit Edison Company

[Docket No. ER00-3012-000]

Take notice that on June 30, 2000, The Detroit Edison Company (Detroit Edison) tendered for filing Service Agreements (the Service Agreement) for Short-term Firm and Non-Firm Point-to-Point Transmission Service under the Open Access and Joint Open Access Transmission Tariff of Consumers Energy Company and Detroit Edison, FERC Electric Tariff No. 1, between Detroit Edison and Williams Energy Marketing and Trading Company, dated as of April 27, 2000. The parties have not engaged in any transactions under the Service Agreements prior to thirty days to this filing.

Detroit Edison requests that the Service Agreements be made effective as rate schedules as of May 26, 2000.

Comment date: July 21, 2000, in accordance with Standard Paragraph E at the end of this notice.

17. The Detroit Edison Company

[Docket No. ER00-3013-000]

Take notice that on June 30, 2000, The Detroit Edison Company (Detroit Edison), tendered for filing Service Agreements (Service Agreements) for Short-term Firm and Non-Firm Point-to-Point Transmission Service under the Open Access and Joint Open Access Transmission Tariff of Consumers Energy Company and Detroit Edison, FERC Electric Tariff No. 1, between Detroit Edison and Aquila Energy Marketing Corporation, dated as of April 27, 2000. The parties have not engaged in any transactions under the Service Agreements prior to thirty days to this filing.

Detroit Edison requests that the Service Agreements be made effective as rate schedules as of May 26, 2000.

Comment date: July 21, 2000, in accordance with Standard Paragraph E at the end of this notice.

18. Ameren Services Company

[Docket No. ER00-3014-000]

Take notice that on June 30, 2000, Ameren Services Company (ASC), the transmission provider, tendered for filing three Service Agreements for Long-Term Firm Point-to-Point Transmission Services between ASC and Reliant Energy Services, Inc. (Reliant). ASC asserts that the purpose of the Agreements is to permit ASC to provide transmission service to Reliant pursuant to Ameren's Open Access Transmission Tariff filed in Docket No. ER 96-677-004.

Comment date: July 21, 2000, in accordance with Standard Paragraph E at the end of this notice.

19. New England Power Pool

[Docket No. ER00-3015-000]

Take notice that on June 30, 2000, the New England Power Pool (NEPOOL) Participants Committee filed for acceptance materials to permit NEPOOL to expand its membership to include The Cape Light Compact and J.F.Gray & Associates, LLC (collectively, the Applicants).

The Participants Committee requests an effective date of July 1, 2000 for commencement of participation in NEPOOL by Applicants.

The Participants Committee states that copies of these materials were sent to the New England state governors and regulatory commissions and the Participants in NEPOOL.

Comment date: July 21, 2000, in accordance with Standard Paragraph E at the end of this notice.

20. Ameren Services Company

[Docket No. ER00-3016-000]

Take notice that on June 30, 2000, Ameren Services Company (Ameren Services), tendered for filing a Network Operating Agreement and a Service Agreement for Network Integration Transmission Service between Ameren Services and Illinois Municipal Electric Agency (IMEA). Ameren Services asserts that the purpose of the Agreements is to permit Ameren Services to provide transmission service to IMEA pursuant to Ameren's Open Access Tariff.

ASC requests that the Network Service Agreement and Network Operating Agreement be allowed to become effective June 1, 2000 as indicated in its term.

Comment date: July 21, 2000, in accordance with Standard Paragraph E at the end of this notice.

21. Northern States Power Company (Minnesota) Northern States Power Company (Wisconsin)

[Docket No. ER00-3017-000]

Take notice that on June 30, 2000, Northern States Power Company (Minnesota) and Northern States Power Company (Wisconsin) (jointly NSP), tendered for filing a Non-Firm and a Short-Term Firm Point-to-Point Transmission Service Agreement between NSP and Wind Utility Consulting.

NSP requests that the Commission accept the Agreement effective June 15, 2000, and requests waiver of the Commission's notice requirements in order for the agreements to be accepted for filing on the date requested.

Comment date: July 21, 2000, in accordance with Standard Paragraph E at the end of this notice.

22. Central Illinois Light Company

[Docket No. ER00-3018-000]

Take notice that on June 30, 2000, Central Illinois Light Company (CILCO), 300 Liberty Street, Peoria, Illinois 61602, tendered for filing with the Commission a substitute Index of Point-To-Point Transmission Service Customers under its Open Access Transmission Tariff and service agreements for one new customer, Legacy Energy Group.

CILCO requested an effective date of June 13, 2000 for the service agreements.

Copies of the filing were served on the affected customer and the Illinois Commerce Commission.

Comment date: July 21, 2000, in accordance with Standard Paragraph E at the end of this notice.

23. Avista Corporation

[Docket No. ER00-3019-000]

Take notice that on June 30, 2000, Avista Corporation, tendered for filing with the Federal Energy Regulatory Commission pursuant to Section 35.12 of the Commissions, 18 CFR Part 35.12, an executed Mutual Netting Agreement with Puget Sound Energy, Inc., effective June 1, 2000.

Notice of the filing has been served upon Puget Sound Energy, Inc.

Comment date: July 21, 2000, in accordance with Standard Paragraph E at the end of this notice.

24. Southern California Edison Company

[Docket No. ER00-3020-000]

Take notice that on June 30, 2000, Southern California Edison Company (SCE), tendered for filing the Harborgen Substation Service Agreement No. 2 (Agreement) between SCE and Harbor Cogeneration Company (Harbor).

The Agreement specifies the terms and conditions under which SCE will interconnect Harbor's 80,000 kW generating facility with SCE's Harborgen Substation pursuant to SCE's Transmission Owners Tariff.

Copies of this filing were served upon the Public Utilities Commission of the State of California and all interested parties.

Comment date: July 21, 2000, in accordance with Standard Paragraph E at the end of this notice.

25. New England Power Pool

[Docket No. ER00-3021-000]

Take notice that on June 30, 2000, the New England Power Pool (NEPOOL), Participants Committee filed for acceptance materials to terminate the membership of MetroMedia Energy, Inc. (MME).

At the request of MME, the Participants Committee seeks a June 1, 2000 effective date for that termination.

The Participants Committee states that copies of these materials were sent to the New England state governors and regulatory commissions and the Participants in NEPOOL.

Comment date: July 21, 2000, in accordance with Standard Paragraph E at the end of this notice.

26. The Detroit Edison Company

[Docket No. ER00-3022-000]

Take notice that on June 30, 2000, The Detroit Edison Company (Detroit Edison), tendered for filing Service Agreements (Service Agreement) for Short-term Firm and Non-Firm Point-to-Point Transmission Service under the Open Access and Joint Open Access Transmission Tariffs of Consumers Energy Company and Detroit Edison, FERC Electric Tariff No. 1, between Detroit Edison and Power Exchange Corporation, dated as of April 27, 2000. The parties have not engaged in any transactions under the Service Agreements prior to thirty days to this filing.

Detroit Edison requests that the Service Agreements be made effective as rate schedules as of May 26, 2000.

Comment date: July 21, 2000, in accordance with Standard Paragraph E at the end of this notice.

27. American Electric Power Service Corporation

[Docket No. ER00-3023-000]

Take notice that on June 30, 2000, the American Electric Power Service Corporation (AEPSC), tendered for filing an executed Firm Point-to-Point Transmission Service Agreement for Duquesne Light Company and Specifications for Long-Term Firm Point-to-Point Transmission Service Reservations to be attached as addenda to the previously filed Firm Point-to-Point Transmission Service Agreement with the Michigan Companies (Consumers Energy and The Detroit Edison Company). All of these agreements are pursuant to the AEP Companies' Open Access Transmission Service Tariff (OATT) that has been designated as the Operating Companies of the American Electric Power System FERC Electric Tariff Revised Volume No. 6, effective June 15, 2000.

AEPSC requests waiver of notice to permit the Service Agreements to be made effective for service billed on and after June 1, 2000.

Pursuant to a request by PP&L, Inc., the Firm and Non-firm Point-to-Point Transmission Service Agreements No. 159 and 95, under AEP Companies' FERC Electric Tariff Original Volume No. 4, are being assigned to PPL EnergyPlus, LLC. The AEP Companies' FERC Electric Tariff Original Volume No. 4 is superceded by the OATT.

A copy of the filing was served upon the Parties and the state utility regulatory commissions of Arkansas, Indiana, Kentucky, Louisiana, Michigan, Ohio, Oklahoma, Tennessee, Texas, Virginia and West Virginia.

Comment date: July 21, 2000, in accordance with Standard Paragraph E at the end of this notice.

28. Aquila Energy Marketing Corporation

[Docket No. ER00-3024-000]

Take notice that on June 30, 2000, Aquila Energy Marketing Corporation (AEMC), tendered for filing a Contingent Call Option between AEMC and UtiliCorp United Inc. (d/b/a Missouri Public Service) dated June 30, 2000.

AEMC requests that the Contingent Call Option be made effective July 1, 2000.

Comment date: July 21 2000, in accordance with Standard Paragraph E at the end of this notice.

29. Ameren Energy Marketing Company and Central Illinois Public Service Company d/b/a AmerenCIPS

[Docket No. ER00-3025-000]

Take notice that on June 30, 2000, Ameren Energy Marketing Company (AEM) and Central Illinois Public Service Company d/b/a AmerenCIPS (AmerenCIPS), tendered for filing a Voluntary Curtailment Agreement under which AmerenCIPS shall voluntary reduce its load upon notice from AEM requesting voluntary reduction in AmerenCIPS load.

Copies of this filing were served upon Illinois Commerce Commission.

Comment date: July 21, 2000, in accordance with Standard Paragraph E at the end of this notice.

30. Southwestern Electric Power Company

[Docket No. ER00-3026-000]

Take notice that on June 30, 2000, Southwestern Electric Power Company (SWEPCO), tendered for filing Amendment No. 3 to the Power Supply Agreement, dated February 10, 1993, as amended, between SWEPCO and East Texas Electric Cooperative, Inc., (ETEC).

SWEPCO states that a copy of the filing has been served on ETEC and on the Public Utility Commission of Texas.

Comment date: July 21, 2000, in accordance with Standard Paragraph E at the end of this notice.

31. Southwestern Electric Power Company

[Docket No. ER00-3027-000]

Take notice that on June 30, 2000, Southwestern Electric Power Company (SWEPCO), tendered for filing Amendment No. 2 to the Amended and Restated Power Supply Agreement, dated June 30, 1997, as amended, between SWEPCO and Northeast Texas Electric Cooperative, Inc., (NTEC).

SWEPCO states that a copy of the filing has been served on NTEC and on the Public Utility Commission of Texas.

Comment date: July 21, 2000, in accordance with Standard Paragraph E at the end of this notice.

32. PPL Electric Utilities Corporation

[Docket No. ER00-3028-000]

Take notice that on June 30, 2000, PPL Electric Utilities Corporation (PPL Utilities), tendered for filing with the Federal Energy Regulatory Commission that pursuant to an Assignment and Assumption Agreement, PPL Utilities will assign to PPL Montour, LLC its rights and obligations under the 115 kV Seward-Conemaugh Interconnection Facilities Agreement (Pennsylvania Electric Company Rate Schedule FERC No. 63).

Comment date: July 21, 2000, in accordance with Standard Paragraph E at the end of this notice.

33. PPL Electric Utilities Corporation

[Docket No. ER00-3029-000]

Take notice that on June 30, 2000, PPL Electric Utilities Corporation (PPL Utilities), tendered for filing with the Federal Energy Regulatory Commission that pursuant to an Assignment and Assumption Agreement, PPL Utilities will assign to PPL Montour, LLC its rights and obligations under the Conemaugh Operating Agreement (GPU Operating Companies Rate Schedule FERC No. 100).

Comment date: July 21, 2000, in accordance with Standard Paragraph E at the end of this notice.

34. PPL Electric Utilities Corporation

[Docket No. ER00-3030-000]

Take notice that on June 30, 2000, PPL Electric Utilities Corporation (PPL Utilities), tendered for filing with the Federal Energy Regulatory Commission that pursuant to an Assignment and Assumption Agreement, PPL Utilities will assign to PPL Montour, LLC its rights and obligations under the Conemaugh Interconnection Agreement (PPL Utilities Rate Schedule FERC No. 168).

Comment date: July 21, 2000, in accordance with Standard Paragraph E at the end of this notice.

35. PPL Electric Utilities Corporation

[Docket No. ER00-3031-000]

Take notice that on June 30, 2000, PPL Electric Utilities Corporation (PPL Utilities), tendered for filing with the Federal Energy Regulatory Commission that pursuant to an Assignment and Assumption Agreement, PPL Utilities will assign to PPL Montour, LLC its rights and obligations under the Keystone Interconnection Agreement (Pennsylvania Electric Company d/b/a/ GPU Energy Rate Schedule FERC No. 115).

Comment date: July 21, 2000, in accordance with Standard Paragraph E at the end of this notice.

36. PPL Electric Utilities Corporation

[Docket No. ER00-3032-000]

Take notice that on June 30, 2000, PPL Electric Utilities Corporation (PPL Utilities), tendered for filing with the Federal Energy Regulatory Commission that pursuant to an Assignment and Assumption Agreement, PPL Utilities will assign to PPL Montour, LLC its rights and obligations under the Keystone Operating Agreement (GPU Operating Companies Rate Schedule FERC No. 99).

Comment date: July 21, 2000, in accordance with Standard Paragraph E at the end of this notice.

37. PPL Electric Utilities Corporation

[Docket No. ER00-3033-000]

Take notice that on June 30, 2000, PPL Electric Utilities Corporation (PPL Utilities), tendered for filing with the Federal Energy Regulatory Commission that pursuant to an Assignment and Assumption of Power Sales Agreement dated June 26, 2000, between Baltimore Gas and Electric Company (BGE) and Constellation Power Source Generation, Inc. (CPSG), BGE will assign to its affiliate CPSG its interest in a Capacity and Energy Sales Agreement between PPL Utilities and BGE (PPL Rate Schedule FERC No. 92).

Comment date: July 21, 2000, in accordance with Standard Paragraph E at the end of this notice.

38. PPL Montour, LLC

[Docket No. ER00-3034-000]

Take notice that on June 30, 2000, PPL Montour, LLC (PPL Montour), tendered for filing with the Commission notice that PPL Electric Utilities Corporation (PPL Utilities) will assign its rights and obligations under the Assignment and Assumption Agreement, dated November 24, 1999, between the Conemaugh Generating Station Owners and Sithe Power Marketing, L.P.

PPL Montour has served a copy of this filing on the Conemaugh Generating Owners, Sithe Power Marketing, L.P. and PPL Utilities.

Comment date: July 21, 2000, in accordance with Standard Paragraph E at the end of this notice.

39. Commonwealth Edison Company; Commonwealth Edison Company of Indiana

[Docket No. ER00-3035-000]

Take notice that on June 30, 2000, Commonwealth Edison Company and Commonwealth Edison Company of Indiana (collectively ComEd), tendered for filing an amendment to ComEd's Open Access Transmission Tariff (OATT) to offer new redispatch options to its Transmission Customers. ComEd is also revising Schedule 9 of its OATT, which sets forth how Transmission Customers shall compensate ComEd for redispatch, and updating the Market Redispatch option of Attachment J to its OATT to reflect changes submitted by the North America Electric Reliability Council and adopted by the Commission in Docket No. ER00-2077-000.

ComEd requests an effective date of August 29, 2000.

Copies of the filing were served upon ComEd's jurisdictional customers and interested state commissions.

Comment date: July 21, 2000, in accordance with Standard Paragraph E at the end of this notice.

40. PPL Montour, LLC

[Docket No. ER00-3036-000]

Take notice that on June 30, 2000, PPL Montour, LLC (PPL Montour), tendered for filing with the Commission notice that PPL Electric Utilities Corporation (PPL Utilities) will assign its rights and obligations under the Assignment and Assumption Agreement, dated November 24, 1999, between the Keystone Generating Station Owners and Sithe Power Marketing, L.P.

PPL Montour has served a copy of this filing on the Keystone Generating Owners, Sithe Power Marketing, L.P. and PPL Utilities.

Comment date: July 21, 2000, in accordance with Standard Paragraph E at the end of this notice.

41. PPL Montour, LLC

[Docket No. ER00-3037-000]

Take notice that on June 30, 2000, PPL Montour, LLC (PPL Montour), tendered for filing with the Commission notice that PPL Electric Utilities Corporation (PPL Utilities) will assign its rights and obligations under the Energy Service Agreement among the Conemaugh Generating Station Owners and Sithe Power Marketing, L.P., dated November 24, 1999, and filed the Energy Service Agreement.

PPL Montour has served a copy of this filing on the Conemaugh Generating Owners, Sithe Power Marketing, L.P. and PPL Utilities.

Comment date: July 21, 2000, in accordance with Standard Paragraph E at the end of this notice.

42. Exeter Energy Limited Partnership

[Docket No. ER00-3039-000]

Take notice that on June 30, 2000, Exeter Energy Limited Partnership. (Exeter) tendered for filing pursuant to Rule 205, 18 CFR 385.205, petition for waivers and blanket approvals under various regulations of the Commission and for an order accepting its FERC Electric Rate Schedule No. 1 to be effective at the earliest possible time, but no later than 60 days from the date of its filing.

EXETER intends to engage in electric power and energy purchases and sales. In transactions where EXETER sells electric energy, it proposes to make such sales on rates, terms and conditions to be mutually agreed to with the purchasing party. As outlined in EXETER's petition, EXETER is an affiliate of CMS Energy, a public utility holding company and the parent company of Consumers Energy Company.

Comment date: July 21, 2000, in accordance with Standard Paragraph E at the end of this notice.

43. Pennsylvania Electric Company

[Docket No ER00-3040-000]

Take notice that on June 30, 2000, Constellation Power Source Generation, Inc. (CPSG), tendered for filing a Notice of Assignment pursuant to which it will replace its affiliate Baltimore Gas and Electric Company (BGE) under the Keystone Generating Station Operating Agreement (Agreement), Penelec Rate Schedule No. 99, as part of BGE's restructuring.

The effective date of the Agreement is the date BGE's ownership interest in the Keystone Generating Station is transferred from BGE to CPSG.

Comment date: July 21, 2000, in accordance with Standard Paragraph E at the end of this notice.

44. Pennsylvania Electric Company

[Docket No. ER00-3041-000]

Take notice that on June 30, 2000, Constellation Power Source Generation, Inc. (CPSG), tendered for filing a Notice of Assignment pursuant to which it will replace its affiliate Baltimore Gas and Electric Company (BGE) under the 115 kV Seward-Conemaugh Interconnection Facilities Agreement, Pennsylvania Electric Company Rate Schedule FERC No. 63.

The effective date of the assignment is the date BGE's ownership interest in the Conemaugh Generating Station is transferred from BGE to CPSG.

Comment date: July 21, 2000, in accordance with Standard Paragraph E at the end of this notice.

45. Constellation Power Source Generation, Inc.

[Docket No ER00-3042-000]

Take notice that on June 30, 2000, Constellation Power Source Generation, Inc. (CPSG), tendered for filing (1) a November 24, 1999 Assignment and Assumption Agreement (November Agreement) among the public utility owners of the Keystone Generating Station; and (2) a June 26, 2000 Assignment and Assumption agreement by and between Baltimore Gas and Electric Company (BGE) and CPSG (June Agreement). Pursuant to the June Agreement, BGE will, in conjunction with its restructuring, assign its interest in the November Agreement to its affiliate CPSG.

Comment date: July 21, 2000, in accordance with Standard Paragraph E at the end of this notice.

46. Pennsylvania Electric Company

[Docket No ER00-3043-000]

Take notice that on June 30, 2000, Constellation Power Source Generation, Inc. (CPSG), tendered for filing Notice of Assignment pursuant to which it will replace its affiliate Baltimore Gas and Electric Company (BGE) under the Conemaugh Generating Station Operating Agreement (Agreement), Penelec Rate Schedule No. 100, as part of BGE's restructuring.

The effective date of the Agreement is the date BGE's ownership interest in the Conemaugh Generating Station is transferred from BGE to CPSG.

Comment date: July 21, 2000, in accordance with Standard Paragraph E at the end of this notice.

47. Safe Harbor Water Power Corporation

[Docket No ER00-3044-000]

Take notice that on June 30, 2000, Constellation Power Source Generation, Inc. (CPSG) on behalf of Safe Harbor Water Power Corporation (Safe Harbor) and PPL Electric Utilities Corporation (PPL Utilities) tendered for filing (a) an Assignment and Assumption of the Safe Harbor Contract, by and between Baltimore Gas and Electric Company (BGE) and CPSG (BGE Agreement); and (b) an Assignment and Assumption of the Safe Harbor Contract, by and between PPL Utilities and PPL Holtwood, LLC (PPL Agreement). Pursuant to the BGE Agreement, BGE will assign its interest as purchaser under the Safe Harbor Contract (Safe Harbor Water Power Corporation Rate Schedule FERC No. 7), to its affiliate CPSG. Pursuant to the PPL Agreement, PPL Utilities will assign its interest as purchaser under the Safe Harbor Contract to PPL Holtwood, LLC.

Comment date: July 21, 2000, in accordance with Standard Paragraph E at the end of this notice.

48. Pennsylvania Electric Company

[Docket No ER00-3045-000]

Take notice that on June 30, 2000, Constellation Power Source Generation, Inc. (CPSG), tendered for filing Notice of Assignment pursuant to which it will replace its affiliate Baltimore Gas and Electric Company (BGE) under the Keystone Generating Station Interconnection Agreement (Agreement), dated June 26, 2000, Penelec Rate Schedule FERC No. 115.

The effective date of the assignment is the date BGE's ownership interest in the Keystone Generating Plant is transferred from BGE to CPSG.

Comment date: July 21, 2000, in accordance with Standard Paragraph E at the end of this notice.

49. Pennsylvania Electric Company

[Docket No ER00-3046-000]

Take notice that on June 30, 2000, Constellation Power Source Generation, Inc. (CPSG), tendered for filing Notice of Assignment pursuant to which it will replace its affiliate Baltimore Gas and Electric Company (BGE) under the Conemaugh Generating Station Operating Agreement (Agreement), Penelec Rate Schedule No. 100, as part of BGE's restructuring.

The effective date of the Agreement is the date BGE's ownership interest in the Conemaugh Generating Station is transferred from BGE to CPSG.

Comment date: July 21, 2000, in accordance with Standard Paragraph E at the end of this notice.

50. Constellation Power Source Generation, Inc.

[Docket No. ER00-3047-000]

Take notice that on June 30, 2000, Constellation Power Source Generation, Inc. (CPSG), tendered for filing Notice of Assignment pertaining to two assignments. The assignments relate to the Keystone Interconnection Agreement, Penelec Rate Schedule FERC No. 115.

The effective date of the assignments is the date Baltimore Gas and Electric Company's (BGE) ownership interest in the Keystone Generating Station is transferred from BGE to its affiliate CPSG.

Comment date: July 21, 2000, in accordance with Standard Paragraph E at the end of this notice.

51. Constellation Power Source Generation, Inc.

[Docket No ER00-3048-000]

Take notice that on June 30, 2000, Constellation Power Source Generation, Inc. (CPSG) tendered for filing (1) A November 24, 1999 Assignment and Assumption Agreement (November Agreement) among the public utility owners of the Conemaugh Generating Station; and (2) a June 26, 2000 Assignment and Assumption agreement by and between Baltimore Gas and Electric Company (BGE) and CPSG (June Agreement). Pursuant to the June Agreement, BGE will, in conjunction with its restructuring, assign its interest in the November Agreement to its affiliate CPSG.

Comment date: July 21, 2000, in accordance with Standard Paragraph E at the end of this notice.

52. Constellation Power Source Generation, Inc.

[Docket No. ER00-3049-000]

Take notice that on June 30, 2000, Constellation Power Source Generation, Inc. (CPSG), tendered for filing Notice of Assignment pertaining to two assignments. The assignments relate to the Conemaugh Interconnection Agreement, Penelec Rate Schedule FERC No. 115.

The effective date of the assignments is the date Baltimore Gas and Electric Company's (BGE) ownership interest in the Conemaugh Generating Station is transferred from BGE to its affiliate CPSG.

Comment date: July 21, 2000, in accordance with Standard Paragraph E at the end of this notice.

53. Panda Oneta Power, L.P.

[Docket No. ER00-3050-000]

Take notice that on June 30, 2000, Panda Oneta Power, L.P. (Panda Oneta), 4100 Spring Valley, Suite 1001, Dallas, Texas 75244, tendered for filing in Docket No. ER00-1982 pursuant to 18 CFR 35.13 and 131.53 of the Federal Energy Regulatory Commission's Rules and Regulations, Notice of Cancellation effective July 1, 2000.

Panda Oneta states that it has never entered into any wholesale electric power or energy transactions, and has never utilized its Electric Rate Schedule FERC No. 1.

Comment date: July 21, 2000, in accordance with Standard Paragraph E at the end of this notice.

Standard Paragraph

E. Any person desiring to be heard or to protest such filing should file a motion to intervene or protest with the Federal Energy Regulatory Commission, 888 First Street, NE, Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17425 Filed 7-10-00; 8:45 am]

BILLING CODE 6717-01-P